DEPARTMENT OF AGRICULTURE

Federal Crop Insurance Corporation

7 CFR Parts 400 and 460

RIN 0563-AC90

Removal of Obsolete Regulations

AGENCY: Federal Crop Insurance Corporation, U.S. Department of Agriculture (USDA).

ACTION: Final rule.

SUMMARY: Risk Management Agency (RMA), on behalf of the Federal Crop Insurance Corporation (FCIC), is in the process of reviewing all regulations within its purview to reduce regulatory burdens and costs. Pursuant to this review, FCIC has identified the following obsolete, unnecessary, and outdated provisions in title 7 of the Code of Federal Regulation (CFR). FCIC is removing these provisions to streamline and clarify the dictates of title 7. The changes in this rule will have no impacts on past or present FCIC customers.

DATES: This rule is effective August 14, 2025.

FOR FURTHER INFORMATION CONTACT: Sherrie Grimm; telephone: (202) 401-0062; email: Sherrie.Grimm@usda.gov. Individuals with disabilities who require alternative means for communication should contact the USDA Target Center at (202) 720-2600 (voice and text telephone (TTY mode)) or dial 711 for Telecommunications Relay Service (both voice and text telephone users can initiate this call from any telephone).

SUPPLEMENTARY INFORMATION:

Background

The President's Executive Order 14219 of February 19, 2025, Ensuring Lawful Governance and Implementing the President's “Department of Government Efficiency” Deregulatory Initiative, 90 FR 10583, and subsequent implementing memorandum directed all agency heads to review regulations within their purview and rescind those that are, among other things, unlawful or unnecessary. FCIC has undertaken such a review and is accordingly rescinding the following provisions from title 7.

Regulatory Certifications

Executive Orders

This document does not meet the criteria for a significant regulatory action as specified by Executive Order (E.O.) 12866. This action also has no federalism or tribal implications and will not impose substantial unreimbursed compliance costs on States, local governments, or Indian Tribal governments. Therefore, impact statements are not required under E.O. 13132 or 13175.

Environmental Evaluation

This rule will have no significant effect on the human environment; therefore, neither an environmental assessment nor impact statement is required.

Paperwork Reduction Act

This rule does not contain reporting or recordkeeping requirements subject to the Paperwork Reduction Act.

Explanation of Provisions

The regulations removed are:

Actual Production History (7 CFR Part 400)

The regulations at 7 CFR part 400 subpart G were transferred to 7 CFR 457.8. The coverage offered in the program was moved in the CFR but not eliminated, rendering this specific regulation obsolete and redundant. Thus, for the reasons explained in the preamble, FCIC is eliminating this part to streamline title 7.

Prevented Planting Supplemental Disaster Payments (7 CFR Part 460)

FCIC is eliminating the regulations at 7 CFR part 460 subpart A. This subpart specifies the terms and conditions of prevented planting supplemental disaster payments. Prevented planting supplemental disaster payments provide additional compensation to producers prevented from planting crops insured under crop insurance policy reinsured by Federal Crop Insurance Corporation due to disaster-related conditions. However, these payments were only available in 2019. Therefore, pursuant to the reasoning laid out in the preamble, FCIC is rescinding the regulations found at part 460 subpart A.

Pandemic Cover Crop Program (7 CFR Part 460)

FCIC is eliminating the regulations at 7 CFR part 460 subpart B. This subpart specifies the terms and conditions of the Pandemic Cover Crop Program. Program premium support was limited to eligible producers for eligible insured acres during the 2021 and 2022 crop seasons. As this time period has passed, these regulations are obsolete. Therefore, FCIC is rescinding part 460 subpart B pursuant to the reasons laid out in the preamble.

List of Subjects

7 CFR Part 400

Actual production history coverage plan, Crop insurance.

7 CFR Part 460

Crop insurance, Disaster assistance.

For the reasons stated in the preamble, FCIC amends 7 CFR parts 400 and 460 as follows:

PART 400—GENERAL ADMINISTRATIVE REGULATIONS

1. The authority citation for part 400 continues to read as follows:

Authority: 7 U.S.C. 1506(1), 1506(o).

Subpart G—[Removed and Reserved]

2. Under the authority of 7 U.S.C. 1506, 1516, remove and reserve subpart G.

PART 460—ADDITIONAL DISASTER PAYMENTS

3. The authority citation for part 460 continues to read as follows:

Authority: 7 U.S.C. 1506(i) and 1506(o); Division N of the Consolidated Appropriations Act, 2021 (Pub. L. 116-260).

Subparts A and B—[Removed and Reserved]

4. Under the authority of 7 U.S.C. 1506(i) and 1506(o); Division N of the Consolidated Appropriations Act, 2021 (Pub. L. 116-260), remove and reserve subparts A and B.

Patricia Swanson,
Manager, Federal Crop Insurance Corporation.

[FR Doc. 2025-15487 Filed 8-13-25; 8:45 am]

BILLING CODE 3410-08-P